SOCIAL SECURITY ADMINISTRATION

Agency Information Collection Activities; Proposed Request and Comment Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed, faxed or e-mailed to the individuals at the addresses and fax numbers listed below:

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

I

The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Incorporation by Reference of Oral Findings of Fact and Rationale in Wholly Favorable Written Decisions (Bench Decision Regulation)—20 CFR 404.953 and 416.1453—0960-0694. Sections 20 CFR 404.953 and 416.1453 of our regulations state that if an Administrative Law Judge makes a wholly favorable oral decision for a claimant of Title II or Title XVI payments at an administrative appeals hearing, and if this oral decision includes all findings and the rationale for the decision, the records from the oral hearing preclude the need for a written decision. This is known as the incorporation-by-reference process. These regulations also state that if the involved parties want a record of the oral decision, they may submit a written request for these records.

Type of Request: Extension of an OMB-approved information collection.

Number of Respondents: 2,500.

Frequency of Response: 1.

Average Burden per Response: 5 minutes.

Estimated Annual Burden: 208 hours.

2. Request for Proof(s) from Custodian of Records—20 CFR 404.703, 404.704, 404.720, 404.721, 404.723, 404.725, & 404.728—0960-NEW. SSA prepares the SSA-L707 for individuals who need help in obtaining evidence of death, marriage, or divorce in connection with claims for benefits. The information collected on the SSA-L707 is used to request and receive the needed evidence. The respondents are custodians of records including statistics and religious entities, coroners, funeral directors, attending physicians, state agencies, etc.

Type of Request: Information Collection in Use Without an OMB Number.

Number of Respondents: 600.

Frequency of Response: 1.

Average Burden per Response: 10 minutes.

Estimated Annual Burden: 100 hours.

3. Request for Evidence from Doctor or Hospital—20 CFR 404 Subpart I and 20 CFR 416 Subpart P—0960-0722. Claimants are required to provide medical evidence of their impairment(s) in pursuing a disability claim. SSA uses these forms to request medical evidence from sources (doctors and hospitals) where the claimant has been treated, seen or otherwise evaluated. The respondents are doctors and hospitals where the claimant has been evaluated.

Type of Request: Revision of an OMB-approved information collection.

Number of Responses: 400,000.

Estimated Annual Burden: 100,000 hours.

Form type | Number of respondents | Frequency of response | Average burden per response (minutes) | Estimated annual burden (hours)
Request for Evidence from a Doctor (J1) | 10,000 | 20 | 15 | 50,000
Request for Evidence from a Hospital (J2) | 10,000 | 20 | 15 | 50,000
Totals | 20,000 |  |  | 100,000

4. Request for School Records—20 CFR 416.906, 416.913, 416.946—0960-0721. School records are pertinent evidence in a childhood claim for disability benefits. Administrative law judges use this form to request that evidence. This letter will be used to request school records from the school(s) which the claimant has attended for evidence relative to the claimant's impairments or ability to do age-appropriate activities. The respondents are the school(s) which the claimant has attended.

Type of Request: Revision of an OMB approved information collection.

Number of Respondents: 10,000.

Frequency of Response: 6.

Average Burden Per Response: 30 minutes.

Estimated Annual Burden: 30,000 hours.

5. Sheltered Workshop Wage Reporting—0960-NEW.

Collection Background

Section 1612(1)(C) of the Social Security Act (the Act) and regulations at 42 U.S.C. 1382a define remuneration received for services performed in a sheltered workshop as earned income for the Supplemental Security Income (SSI) program. The amount of monthly wages determines an individual's SSI benefit amount.

Collection Description

SSA has maintained a working relationship with sheltered workshops since the inception of the SSI program. Most workshops report monthly wage totals to the local SSA office so that the client's SSI check is adjusted timely and overpayments are prevented. While participation of the workshop is strictly voluntary, they are highly motivated to report the wages because it provides a service to their clients. Sheltered Workshop reporting reduces the number of overpayments to SSI recipients. Processing these wage reports electronically reduces the cost of administering the program. SSA uses the information collected to verify and post monthly wages to the SSI recipient's record. Respondents are sheltered workshops that report monthly wages for services performed in the workshop.

Type of Request: New information collection.

Number of Respondents: 1,000.

Frequency of Response: 12.

Average Burden per Response: 5 minutes.

Estimated Annual Burden: 1,000 hours.

6. Letter to Custodian of Birth Records/Letter to Custodian of School Records—20 CFR 404.704, 404.716, 416.802, and 422.107—0960-0693. SSA prepares the SSA-L106 and SSA-L706 for individuals who need help in obtaining evidence of their age in connection with Social Security number card applications and claims for benefits. SSA also uses the SSA-L706 to determine the existence of primary evidence of age for Social Security Number (SSN) applicants, and SSA uses both letters to verify with the issuing entity, when necessary, the authenticity of the record submitted by the SSN applicant or claimant. The respondents are schools, state and local bureaus of vital statistics, and religious entities.

Type of Request: Revision of an OMB-approved information collection.

Number of Respondents: 7,200.

Frequency of Response: 1.

Average Burden per Response: 10 minutes.

Estimated Annual Burden: 1,200 hours.

II

The information collections listed below have been submitted to OMB for clearance. Your comments on the information collections would be most useful if received by OMB and SSA within 30 days from the date of this publication. You can obtain a copy of the OMB clearance packages by calling the SSA Reports Clearance Officer at 410-965-0454, or by writing to the address listed above.

1. Function Report—Child: Birth to 1st Birthday (SSA-3375), Age 1 to 3rd Birthday (SSA-3376), Age 3 to 6th Birthday (SSA-3377), Age 6 to 12th Birthday (SSA-3378), and Age 12 to 18th Birthday (SSA-3379)—20 CFR 416.912—0960-0542. State Agency adjudicative teams use the information gathered by these forms in combination with other medical functional evidence to form a complete picture of a child's ability to function. This information is used to help determine if a child is disabled, especially in cases in which disability cannot be found on medical grounds alone. The respondents are applicants for Title XVI childhood disability benefits and their caregivers.

Type of Request: Extension of an OMB-approved information collection.

Number of Respondents: 550,000.

Frequency of Response: 1.

Average Burden per Response: 20 minutes.

Estimated Annual Burden: 183,333 hours.

2. Annual Registration Statement Identifying Separated Participants With Deferred Benefits, Schedule SSA—0960-0606. Schedule SSA is a form filed annually as part of a series of pension plan documents required by section 6057 of the Internal Revenue Service Code. Administrators of pension benefit plans are required to report specific information on future plan benefits for those participants who left plan coverage during the year. SSA maintains the information until a claim for Social Security benefits has been approved. At that time, SSA notifies the beneficiary of his/her potential eligibility for payments from the private pension plan. The respondents are administrators of pension benefit plans or their service providers employed to prepare the Schedule SSA on behalf of the pension benefit plan. Below are the estimates of the cost and hour burdens for completing and filing Schedule SSA(s). We have used an average to estimate the hour burden. However, the burden may be greater or smaller depending on whether the respondent is a large or small pension benefit plan and how many Schedule SSA's are filed in a given year.

Type of Request: Extension of an OMB-approved information collection.

Number of Respondents: 88,000.

Frequency of Response: 1.

Average Burden per Response: 2.5 hours.

Estimated Annual Burden: 220,000 hours.

Estimated Annual Cost Burden for All Respondents: $12,194,400.

Dated: August 14, 2007.
Elizabeth A. Davidson,
Reports Clearance Officer, Social Security Administration.

[FR Doc. E7-16232 Filed 8-17-07; 8:45 am]

BILLING CODE 4191-02-P